DEPARTMENT OF ENERGY

Federal Energy Regulatory Commission

[Docket No. RP01-388-000]

Northern Border Pipeline Company; Notice of Proposed Changes in FERC Gas Tariff

May 3, 2001.

Take notice that on April 30, 2001, Northern Border Pipeline Company (Northern Border) tendered for filing to become part of its FERC Gas Tariff, First Revised Volume No. 1, the following tariff sheets to become effective June 1, 2001:

Third Revised Sheet Number 1

Second Revised Sheet Number 98

Original Sheet Number 182

Second Revised Sheet Number 216

Original Sheet Number 185

Original Sheet Number 186

First Revised Sheet Number 259A

Original Sheet Number 189

Original Sheet Number 190

Original Sheet Number 260A

Original Sheet Number 260B

Original Sheet Number 260C

Third Revised Sheet Number 203

Original Sheet Number 462

Original Sheet Number 463

Original Sheet Number 205A

First Revised Sheet Number 211A

Original Sheet Number 467

Original Sheet Number 468

Eighth Revised Sheet Number 213A

First Revised Sheet Number 213B

Third Revised Sheet Number 214A

Original Sheet Number 183

Original Sheet Number 184

First Revised Sheet Number 233

Original Sheet Number 187

Original Sheet Number 188

Third Revised Sheet Number 260

Original Sheet Number 191

Sheet Numbers 192-199

Fourth Revised Sheet Number 200

Original Sheet Number 260D

Original Sheet Number 260E

Third Revised Sheet Number 205

Original Sheet Number 464

Original Sheet Number 465

Original Sheet Number 466

Fourth Revised Sheet Number 212

Sheet Numbers 469-499

Northern Border states that the purpose of this filing is to implement a new Rate Schedule PAL for park and loan services and to reflect changes in Northern Border's General Terms and Conditions and form of Agreement for services related to implementing Rate Schedule PAL, and to add provisions for Operation Flow Orders.

Northern Border states that copies of this filing have been sent to all Northern Border's contracted shippers and interested state regulatory commissions.

Any persons desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-11665 Filed 5-8-01; 8:45 am]

BILLING CODE 6717-01-M